DEPARTMENT OF AGRICULTURE

Forest Service

McCaslin Project; Chequamegon-Nicolet National Forest, Oconto and Forest Counties, WI

AGENCY: Forest Service, USDA.

ACTION: Revised notice, intent to prepare an environmental impact statement.

SUMMARY: The Forest Service proposes to implement land management activities consistent with direction in the 1986 Nicolet National Forest Land and Resource Management Plan. Activities are proposed on National Forest in an area called “McCaslin ”. This notice revises the “responsible official” and updates expected statement dates.

DATES: The final environmental impact statement is expected June 2003.

Responsible Official: This Notice revises the responsible official from Lakewood/Laona District Ranger to: Anne F. Archie, Forest Supervisor, Chequamegon-Nicolet National Forest, Park Falls, Wisconsin.

ADDRESSES: Send written comments to Anne F. Archie, Forest Supervisor, Chequamegon-Nicloet National Forest, 1170 4th Avenue S, Park Falls, WI 54552.

FOR FURTHER INFORMATION CONTACT: John Lampereur, Project Leader, Lakewood District Office, 15085 State Road 32, Lakewood, WI, 54138 (phone (715) 276-6333; or visit the McCaslin Web site at http://www.fs.fed.us/r9/cnnf/natres/eis/wash/mccaslin/index.html).

SUPPLEMENTARY INFORMATION: The original notice of intent to prepare the McCaslin environmental impact statement was published in the Federal Register on April 5, 2001 (Vol 66, No 66 page 18070, Thursday, April 5, 2001/Notices).

Dated: May 8, 2003.
Anne F. Archie,
Forest Supervisor, Chequamegon-Nicolet National Forest.

[FR Doc. 03-12234 Filed 5-15-03; 8:45 am]

BILLING CODE 3410-11-M